DEPARTMENT OF ENERGY

[FE Docket No. PP-197]

Withdrawal of Notice of Intent To Prepare an Environmental Impact Statement; Public Service Company of New Mexico

AGENCY: Office of Fossil Energy, DOE.

ACTION: Notice of withdrawal.

SUMMARY: On February 12, 1999, the Department of Energy (DOE) announced its intent to prepare an Environmental Impact Statement (EIS) in accordance with the National Environmental Policy Act of 1969 (NEPA) for the Public Service Company of New Mexico's (PNM) request for a Presidential permit for proposed international electric transmission lines. The proposed Federal action in this EIS was to grant PNM a Presidential permit for the construction, operation, maintenance, and connection of two 345,000-volt electric transmission lines originating at the switchyard of the Palo Verde Nuclear Generating Station (PVNGS) near Phoenix, Arizona, and extending approximately 160 miles to the south, crossing the United States border with Mexico in the vicinity of Nogales, Arizona. The EIS would have evaluated the potential environmental impacts associated with the proposed Federal action and reasonable alternatives.

In a letter dated November 16, 2004, PNM notified DOE that it no longer finds the proposed project viable and withdrew its application for a Presidential permit. Therefore, further preparation of an EIS is not necessary. The notice of intent to prepare an EIS is withdrawn and the NEPA process is hereby terminated.

FOR FURTHER INFORMATION CONTACT: Ellen Russell, Office of Fossil Energy, FE-27, U.S. Department of Energy, 1000 Independence Avenue, SW., Washington, DC 20585. Telephone 202-586-9624; electronic mail: ellen.russell@hq.doe.gov.

For general information on the DOE NEPA process, please contact Carol M. Borgstrom, Director, Office of NEPA Policy and Compliance (EH-42), U.S. Department of Energy, 1000 Independence Avenue, SW., Washington, DC 20585-0119, Phone: 202-586-4600 or leave a message at 800-472-2756; facsimile: 202-586-7031.

SUPPLEMENTARY INFORMATION: The construction, operation, maintenance and connection of facilities at the international border of the United States for the transmission of electric energy between the United States and a foreign country is prohibited in the absence of a Presidential permit issued pursuant to Executive Order (EO) 10485, as amended by EO 12038.

On December 31, 1998, PNM, a regulated public utility, filed an application with the Office of Fossil Energy (FE) of DOE for a Presidential permit. PNM proposed to construct two high-voltage transmission circuits within a single right-of-way. Both circuits would have originated at the switchyard adjacent to the PVNGS located west of Phoenix, Arizona, and extended to the U.S.-Mexico border in one of three two-mile wide corridors preliminarily identified by PNM. From the U.S.-Mexico border, the proposed facilities would have extended approximately 60 miles into Mexico where they would have connected with complementary transmission facilities of the Comision Federal de Electricidad (CFE), the national electric utility of Mexico, at CFE's existing Santa Ana Substation.

Parts of the proposed transmission corridor identified by PNM were on Federal land managed by the U.S. Department of the Interior's Bureau of Land Management and the U.S. Department of Agriculture's U.S. Forest Service; both were cooperating agencies in preparation of the EIS. Activities by those agencies with respect to the EIS are also terminated.

Issued in Washington, DC on February 15, 2005.
Anthony J. Como,
Deputy Director, Electric Power Regulation, Office of Fossil Energy.

[FR Doc. 05-3326 Filed 2-18-05; 8:45 am]

BILLING CODE 6450-01-P